DEPARTMENT OF THE INTERIOR

Bureau of Land Management

[AZ-030-2640-BH; AZA 31887]

Notice of Proposed Withdrawal and Opportunity for Public Meeting; Arizona

AGENCY: Bureau of Land Management, Interior.

ACTION: Notice.

SUMMARY: The Bureau of Land Management proposes to withdraw 352.55 acres for a period of 20 years to protect the Hillside Mine Reclamation Project. This notice segregates the land for up to 2 years from location and entry under the United States mining laws. The land will remain open to mineral and geothermal leasing and material sales.

DATES: Comments should be received on or before December 17, 2002.

ADDRESSES: Comments should be sent to the Kingman Field Office Manager, BLM, 2475 Beverly Avenue, Kingman, AZ 86401.

FOR FURTHER INFORMATION CONTACT: Art Smith, Kingman Field Office, BLM, 2475 Beverly Avenue, Kingman, AZ 86401, 928-692-4433.

SUPPLEMENTARY INFORMATION: On May 30, 2002, a petition was approved allowing the Bureau of Land Management to file an application to withdraw the following described land from location and entry under the United States mining laws, subject to valid existing rights:

Gila and Salt River Meridian

T. 15 N., R. 9 W.,

Sec. 16, lots 1 to 5, inclusive, SW¼NE¼, SE¼NW¼, NW¼SW¼, and E½SE¼.

The area described contains 352.55 acres in Yavapai County.

All persons who wish to submit comments, suggestions, or objections in connection with the proposed withdrawal may present their views in writing, by the date specified above, to Kingman Field Office Manager.

Notice is hereby given that an opportunity for a public meeting is afforded in connection with the proposed withdrawal. All interested persons who desire a public meeting for the purpose of being heard on the proposed withdrawal must submit a written request to the Kingman Field Office Manager, within 90 days from the date of publication of this notice. Upon determination by the authorized officer that a public meeting will be held, a notice of the time and place will be published in the Federal Register and a newspaper at least 30 days before the scheduled date of the meeting.

The application will be processed in accordance with the regulations set forth in 43 CFR part 2300.

For a period of 2 years from the date of publication of this notice in the Federal Register, the land will be segregated as specified above unless the application is denied or canceled or the withdrawal is approved prior to that date.

Dated: June 13, 2002.
Steven J. Gobat,
Acting Deputy State Director, Resources Division.

[FR Doc. 02-23642 Filed 9-17-02; 8:45 am]

BILLING CODE 4310-32-P